DEPARTMENT OF JUSTICE

Antitrust Division

Notice Pursuant to the National Cooperative Research and Production Act of 1993—Electric Utility Industry Sustainable Supply Chain Alliance, Inc.

Notice is hereby given that, on February 2, 2009, pursuant to Section 6(a) of the National Cooperative Research and Production Act of 1993, 15 U.S.C. 4301 et seq. (“the Act”), the Electric Utility Industry Sustainable Supply Chain Alliance, Inc. (“the Alliance”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Electric Utility Industry Sustainable Supply Chain Alliance, Inc., Raleigh, NC. The nature and scope of the Alliance's standards development activities are to improve the environmental performance of participants in the supply chains utilized by electric utilities, focusing on the development of voluntary consensus standards for evaluating the following: the environmental attributes of key materials and services provided to the electric utility industry; the environmental performance of suppliers to the electric utility industry; and the environmental performance of an electric utility industry company's supply chain operations.

Patricia A. Brink,
Deputy Director of Operations, Antitrust Division.

[FR Doc. E9-4028 Filed 2-25-09; 8:45 am]

BILLING CODE 4410-11-M